DEPARTMENT OF JUSTICE

Antitrust Division

Notice Pursuant to the National Cooperative Research and Production Act of 1993; J. Consortium, Inc.

Notice is hereby given that, on August 9, 1999, pursuant to section 6(a) of the National Cooperative Research and Production Act of 1993, 15 U.S.C. 4301 et seq. (“the Act”), J. Consortium, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Advanced VLSL Engineering Inc., San Jose, CA; Advantisys, Upland, CA; Anacon Systems Inc., Mountain View, CA; Aonix, San Diego, CA; Brooks Automation Software Corp., Richmond, B.C., CANADA; Coactive Networks, Sausalito, CA; EIB Association scrl (EIBA), Brussels, BELGIUM; FI System, Paris, FRANCE; GraphOn, Campbell, CA; Groupe Silicomp Research Institute, Gieres, FRANCE; Hewlett Packard, Cupertino, CA; Hinditron Information Ltd., Andhen (East), MUMBAI; Icon Laboratories, Inc., West Des Moines, IA; KALKI Communications Technology, Koramangala, BANGALORE; Microsoft, Redmond, WA; Mitsubishi Electric Corp., Kobe, JAPAN; Murata Manufacturing Co., Ltd., Siga, JAPAN; Navia Maritime AS, division Autronica, Trondheim, NORWAY; NewMonics Inc., Ames, IA; Russell J. Richards, Woodbridge, VA; Octera Corporation, San Diego, CA; OMRON Corporation, Santa Clara, CA; Jack Xu, Milpitas, CA; Perennial, San Jose, CA; Plum Hall Inc., Kamuela, HI; Schlumberger Test & Transactions, Montrouge Cedex, FRANCE; Siemens A&D, Nurnberg, GERMANY; Transmedia Communications, Fremont, CA; WindRiver, Alameda, CA; Xerox PARC, Palo Alto, CA; Xycom Automation Inc., Chagrin Falls, OH; Yamatake Corporation, Kanagawa, JAPAN; Yokogawa Electric Corporation, Tokyo, JAPAN; and E. Douglas Jensen, Sherborn, MA. The nature and objectives of the venture are to promote the development and adoption of open, accessible standards and specifications relating to real-time and embedded applications for JAVA™ technologies, such as the Java Virtual Machine (JVM), Java Application Programming Interfaces (APIs, or packages), etc. (“Specifications”); to promote such specifications and solutions worldwide to ensure the ability for application developers to create soft- and hard-real-time applications for such technologies, to provide for testing and conformity assessment of implementations in order to ensure compliance with Specifications; to create and own distinctive trademarks; and to operate a branding program based upon distinctive trademarks to create high customer awareness of, demand for, and confidence in products designed in compliance with Specifications; and to undertake such other activities as may from time to time be appropriate to further the purposes and achieve the goals set forth above.

Constance K. Robinson,
Director of Operations, Antitrust Division.

[FR Doc. 00-6958 Filed 3-20-00; 8:45 am]

BILLING CODE 4410-11-M